DEPARTMENT OF ENERGY

Federal Energy Regulatory Commission

[Docket No. EF05-5011-000, et al.]

United States Department of Energy, et al.; Electric Rate and Corporate Filings

January 10, 2005.

The following filings have been made with the Commission. The filings are listed in ascending order within each docket classification.

1. United States Department of Energy, Western Area Power Administration

[Docket No. EF05-5011-000]

Take notice that on November 22, 2004, the Deputy Secretary of the Department of Energy, by Rate Order No. WAPA-115, did confirm and approve on an interim basis, to be effective on January 1, 2005, the Western Area Power Administration Rate Schedules CV-F11, for base resource and first preference power from the Central Valley Project (CVP), CPP-1 for custom product power, CV-T1 for firm and non-firm point-to-point transmission service on the CVP transmission system, CV-NWT3 for network integration transmission service on the CVP transmission system, CV-TPT6 for third-party transmission service, COTP-T1 for firm and Non-firm point-to-point transmission service on the California-Oregon Transmission Project, PACI-T1 for firm and Non-firm point-to-point transmission service on the Pacific Alternating Current Intertie, and CV-RFS3, CV-EID3, CV-SPR3, and CV-SUR3 for ancillary services for the CVP. Rate Order No. WAPA-115 also contains information on the Path 15 Transmission Upgrade.

The formula rates in Rate Schedules CV-F11, CPP-1, CV-T1, CV-NWT3, CV-TPT6, COTP-T1, PACI-T1, CV-RFS3, CV-EID3, CV-SPR3, and CV-SUR3 will be in effect pending the Federal Energy Regulatory Commission's approval of these or of substitute rates on a final basis, ending September 30, 2009.

Comment Date: 5 p.m. eastern time on January 31, 2005.

2. Entergy Services, Inc.

[Docket No. EL05-52-000]

Take notice that on January 3, 2005 Entergy Services, Inc., (Entergy) on behalf of the Entergy Operating Companies, filed pursuant to Commission Rule 207, 18 CFR 385.207, a Petition for Declaratory Order. Entergy states that the Petition requests guidance on important issues associated with Entergy's proposal to establish an Independent Coordinator of Transmission.

Comment Date: 5 p.m. eastern time on February 4, 2005.

3. Maine Public Service Company

[Docket No. ER00-1053-012]

Take notice that on December 30, 2004, Maine Public Service Company (MPS) submitted an amendment to its June 15, 2004 informational filing setting forth the changed open access transmission tariff charges effective June 1, 2004, together with back-up materials).

MPS states that copies of this filing were served on the parties to the Settlement Agreement in Docket No. ER00-1053-000, the Commission Trial Staff, the Maine Public Utilities Commission, the Maine Public Advocate, and current MPS open access transmission tariff customers.

Comment Date: 5 p.m. eastern time on January 21, 2005.

4. Delta Energy Center, LLC

[Docket No. ER03-510-004]

Take notice that on December 30, 2004, Delta Energy Center, LLC (Delta) submitted substitute revised rate schedule sheets to Delta's Rate Schedule FERC No. 2 to correct inadvertent errors contained in Delta's November 23, 2004, filing in Docket No. ER03-510-003. Delta requests an effective date of January 1, 2005.

Delta states that copies of the filing were served upon the official service list for this proceeding.

Comment Date: 5 p.m. eastern time on January 21, 2005.

5. Pacific Gas and Electric Company

[Docket No. ER03-1091-006]

Take notice that on December 30, 2004, Pacific Gas and Electric Company (PG&E) submitted a compliance filing pursuant to the Commission's letter order issued December 22, 2004 in Docket No. ER03-1091-005, 109 FERC ¶ 61,336 (2004).

PG&E states that copies of this filing were served upon Duke Energy Morro Bay, LLC, the California Independent System Operator Corporation, and the California Public Utilities Commission (CPUC).

Comment Date: 5 p.m. eastern time on January 21, 2005.

6. Delmarva Power & Light Company

[Docket Nos. ER04-509-004 and ER04-1250-003]

Take notice that on December 30, 2004, PJM Interconnection, L.L.C. (PJM) submitted for filing a response to the Commission's November 23, 2004, letter order regarding deficiencies in a compliance filing submitted by Delmarva Power & Light Company in Docket Nos. ER04-509-001 and ER04-1250-003.

PJM states that a copy of the filing has been served by U.S. Mail on all parties on the Commission's service list for this proceeding.

Comment Date: 5 p.m. eastern time on January 24, 2005.

7. PJM Interconnection, L.L.C.

[Docket No. ER04-608-002]

Take notice that on January 3, 2005, PJM Interconnection, L.L.C. (PJM) submitted for filing a status report of PJM's stakeholder process regarding expansion of PJM's behind the meter generation program to include generation associated with municipals' and cooperatives' electric distribution systems as required by the Commission's order issued May 6, 2004, in this proceeding, 107 FERC ¶ 61,113, reh'g denied, 108 FERC ¶ 61,302 (2004).

PJM states that a copy of this report has been served on all parties on the Commission's service list for this proceeding.

Comment Date: 5 p.m. eastern time on January 24, 2005.

8. PJM Interconnection, L.L.C.

[Docket No. ER05-12-001]

Take notice that on December 30, 2004, PJM Interconnection, L.L.C. (PJM), submitted a compliance filing pursuant to Commission's order issued November 30, 2004 issued in ER05-12-000, 109 FERC ¶ 61,241. PJM requests an effective date of December 1, 2004.

PJM states that copies of the filing were served on all persons on the service list in Docket No. ER05-12-000, as well as all PJM members, and each state electric utility regulatory commission in the PJM regions.

Comment Date: 5 p.m. eastern time on January 21, 2005.

9. American Electric Power Service Corporation

[Docket No. ER05-394-000]

Take notice that on December 30, 2004, the American Electric Power Service Corporation (AEPSC), tendered for filing an Interconnection and Local Delivery Service Agreement between AEPSC and Ormet Primary Aluminum Corporation (ORMET) designated as Original Service Agreement No. 568 under the Operating Companies of the American Electric Power System FERC Electric Tariff, Third Revised Volume No. 6. AEPSC requests an effective date of November 1, 2004.

AEPSC states that a copy of the filing was served upon ORMET and the Public Service Commission of Ohio.

Comment Date: 5 p.m. eastern time on January 21, 2005.

10. Central Maine Power Company

[Docket No. ER05-401-000]

Please take notice that on January 3, 2005, Central Maine Power Company (CMP) submitted the following entitlement agreements between CMP and Constellation Energy Commodities Group, Inc. (CECG): System Contract Entitlement Agreement, FERC Rate Schedule No. 202; Waste-to-Energy Entitlement Agreement, FERC Rate Schedule No. 203; Cogeneration Entitlement Agreement, FERC Rate Schedule No. 204; Nuclear Entitlement Agreement, FERC Rate Schedule No. 205; and Hydroelectric Entitlement Agreement, FERC Rate Schedule No. 206. CMP requests an effective date of March 1, 2005.

Comment Date: 5 p.m. eastern time on January 24, 2005.

11. Otter Tail Power Company

[Docket No. ER05-408-000]

Take notice that on January 3, 2005, Otter Tail Power Company (Otter Tail) submitted proposed amendments to the following agreements between Otter Tail and City of Newfolden, City of Nielsville, City of Shelly, State of Minnesota on behalf of State Hospital, State of North Dakota on behalf of Grafton State School, State of North Dakota on behalf of School of Forestry, State of North Dakota on behalf of School of Science, State of North Dakota on behalf of School for the Deaf, Fort Totten Indian Agency, Turtle Mountain Indian Agency, Oakes O&M Center, and Town of Badger. Otter Tail states that the proposed amendments are intended to allow for the reimbursement to Otter Tail for certain Midwest Independent Transmission System Operator, Inc. costs associated with the load of the Customers. Otter Tail requests an effective date of March 1, 2005.

Comment Date: 5 p.m. eastern time on January 24, 2005.

12. Southern California Edison Company

[Docket No. ER05-410-000]

Take notice that on December 30, 2004, Southern California Edison Company (SCE) submitted proposed revisions to SCE's TO Tariff, FERC Electric Tariff, Second Revised Volume No. 6, Appendix VI, and to certain Existing Transmission Contracts to increase SCE's Reliability Services Revenue Requirement and Reliability Services rates.

SCE states that copies of the filing were served upon SCE's jurisdictional customers, the California Public Utilities Commission, the California Electricity Oversight Board, the California Independent System Operator, Pacific Gas and Electric Company, and the San Diego Gas and Electric Company.

Comment Date: 5 p.m. eastern time on January 21, 2005.

13. Duke Energy Grays Harbor, LLC

[Docket No. ER05-418-000]

Take notice that on December 30, 2004, Duke Energy Grays Harbor, LLC (Duke Grays Harbor) submitted a Notice of Cancellation of its FERC Electric Tariff, Original Volume No. 1. Duke Grays Harbor requests an effective date of December 31, 2004.

Comment Date: 5 p.m. eastern time on January 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-191 Filed 1-18-05; 8:45 am]

BILLING CODE 6717-01-P